DEPARTMENT OF COMMERCE

National Institute of Standards and Technology

Smart Grid Advisory Committee

AGENCY: National Institute of Standards and Technology, Department of Commerce.

ACTION: Notice of open meeting.

SUMMARY: The Smart Grid Advisory Committee (SGAC or Committee) will hold a meeting via teleconference on Friday, July 27, 2012 from 11 a.m. to 2 p.m. Eastern Time (ET). The primary purposes of this meeting are to review updates on the Smart Grid Interoperability Panel transition plan, review the status of the research subcommittee and the August Smart Grid Workshop in Boulder, Colorado, and plan for a fall meeting. Interested members of the public will be able to participate in the meeting from remote locations by calling into a central phone number.

DATES: The SGAC will hold a meeting via teleconference on Friday, July 27, 2012, from 11 a.m. until 2 p.m. Eastern Time (ET).

ADDRESSES: Questions regarding the meeting should be sent to Office of the National Coordinator for Smart Grid Interoperability, National Institute of Standards and Technology, 100 Bureau Drive, Mail Stop 8200, Gaithersburg, MD 20899-8200. For instructions on how to participate in the meeting, please see the SUPPLEMENTARY INFORMATION section of this notice.

FOR FURTHER INFORMATION CONTACT: Dr. George W. Arnold, National Coordinator for Smart Grid Interoperability, National Institute of Standards and Technology, 100 Bureau Drive, Mail Stop 8200, Gaithersburg, MD 20899-8200; telephone 301-975-2232, fax 301-975-4091; or via email at nistsgfac@nist.gov.

SUPPLEMENTARY INFORMATION: The Committee was established in accordance with the Federal Advisory Committee Act, as amended, 5 U.S.C. App.

Background information on the Committee is available at http://www.nist.gov/smartgrid/committee.cfm.

Pursuant to the Federal Advisory Committee Act, as amended, 5 U.S.C. App., notice is hereby given that the SGAC will hold a meeting via teleconference on Friday, July 27, 2012, from 11 a.m. until 2 p.m. Eastern Time (ET). There will be no central meeting location. The public is invited to participate in the meeting by calling in from remote locations. The primary purposes of this meeting are to review updates on the Smart Grid Interoperability Panel transition plan, review the status of the research subcommittee and the August Smart Grid Workshop in Boulder, Colorado, and plan for a fall meeting.

All participants of the meeting are required to pre-register to be admitted. Anyone wishing to participate must register by close of business on Friday, July 20, 2012, in order to be admitted. Please submit your name, email address, and phone number to Cuong Nguyen at cuong.nguyen@nist.gov or (301) 975-2254. After registering, participants will be provided with detailed instructions on how to dial in from a remote location in order to participate.

Individuals and representatives of organizations who would like to offer comments and suggestions related to the Committee's affairs are invited to request detailed instructions on how to dial in from a remote location to participate in the meeting by contacting Cuong Nguyen at cuong.nguyen@nist.gov or (301) 975-2254 no later than July 20, 2012. Approximately fifteen minutes will be reserved from 1:45 p.m.-2 p.m. Eastern Time (ET) for public comments, and speaking times will be assigned on a first-come, first-serve basis. The amount of time per speaker will be determined by the number of requests received, but is likely to be about 3 minutes each. Questions from the public will not be considered during this period. Speakers who wish to expand upon their oral statements, those who had wished to speak but could not be accommodated, and those who were unable to participate are invited to submit written statements to the Office of the National Coordinator for Smart Grid Interoperability, National Institute of Standards and Technology, 100 Bureau Drive, Mail Stop 8200, Gaithersburg, MD 20899-8200, via fax at 301-975-4091, or electronically by email to nistsgfac@nist.gov.

Dated: June 26, 2012.
Willie E. May,
Associate Director for Laboratory Programs.

[FR Doc. 2012-16012 Filed 6-28-12; 8:45 am]

BILLING CODE 3510-13-P